DEPARTMENT OF TRANSPORTATION

Federal Aviation Administration

14 CFR Part 25

[Docket No. FAA-2013-0894; Special Conditions No. 25-532-SC]

Special Conditions: Airbus A350-900 Series Airplane; Interaction of Systems and Structures

AGENCY: Federal Aviation Administration (FAA), DOT.

ACTION: Final special conditions, request for comments; correction.

SUMMARY: This document corrects errors that appeared in final special conditions docket no. FAA-2013-0894, which was published in the Federal Register on December 20, 2013 (78 FR 76980). The errors are in the document's special conditions stage (notice vs. final) and special conditions number.

DATES: This action is effective November 6, 2014.

FOR FURTHER INFORMATION CONTACT: Todd Martin, FAA, Airframe/Cabin Safety, ANM-115, Transport Airplane Directorate, Aircraft Certification Service, 1601 Lind Avenue SW., Renton, Washington, 98057-3356; telephone (425) 227-1178; facsimile (425) 227-1320.

SUPPLEMENTARY INFORMATION: The final special conditions document designated as “Docket No. FAA-2013-0894; Notice No. 25-13-16-SC” was published in the Federal Register on December 20, 2013 (78 FR 76980). The document issued special conditions pertaining to interaction of systems and structures on Airbus A350-900 series airplanes.

As published, the document contained two errors: One referring to the document's special conditions stage, “Notice no.,” instead of “Special Conditions No.;” and one in the special conditions number itself, 25-13-16-SC (a notice number), instead of 25-532-SC (the assigned final special conditions number).

Because this error and correction do not affect the regulatory content of the special conditions, the special conditions are not being re-published.

Correction

In the final special conditions, request for comments document [FR Doc. 2013-30235, Filed 12-19-13; 8:45 a.m.] published on December 20, 2013 (78 FR 76980), make the following correction:

On page 76980, in the first column, in the heading, correct “Notice No. 25-13-16-SC” to read “Special Conditions No. 25-532-SC”.

Issued in Renton, Washington, on October 31, 2014.
Michael Kaszycki,
Acting Manager, Transport Airplane Directorate, Aircraft Certification Service.

[FR Doc. 2014-26341 Filed 11-5-14; 8:45 am]

BILLING CODE 4910-13-P